DEPARTMENT OF COMMERCE

National Oceanic and Atmospheric Administration

RIN 0648-XD574

Pacific Fishery Management Council; Public Meeting (Webinar)

AGENCY: National Marine Fisheries Service (NMFS), National Oceanic and Atmospheric Administration (NOAA), Commerce.

ACTION: Notice of public meeting (webinar).

SUMMARY: The Pacific Fishery Management Council (Pacific Council) will convene a webinar meeting of its Coastal Pelagic Species Management Team (CPSMT). Information on how to participate will be posted to the Pacific Council's Web site (www.pcouncil.org) in advance of the webinar.

DATES: The webinar meeting will be held Friday, November 7, from 2 p.m.-3 p.m. Pacific Time, or until business for the day is concluded.

ADDRESSES: A listening station will be available at the Pacific Council office: 7700 NE Ambassador Place, Suite 101, Portland, OR 97220.

FOR FURTHER INFORMATION CONTACT: Kerry Griffin, Staff Officer; telephone: (503) 820-2409.

SUPPLEMENTARY INFORMATION: The primary purpose of the meeting is to develop supplemental reports, if needed, relevant to the November Council meeting in Costa Mesa, California. Topics may include the draft Pacific sardine harvest fraction Environmental Assessment, proposals for CPS methodology review topics, or requests for exempted fishing permits.

Action will be restricted to those issues specifically listed in this notice and any issues arising after publication of this notice that require emergency action under Section 305(c) of the Magnuson-Stevens Fishery Conservation and Management Act, provided the public has been notified of the CPSMT's intent to take final action to address the emergency.

Special Accommodations

This listening station is physically accessible to people with disabilities. Requests for sign language interpretation or other auxiliary aids should be directed to Mr. Kris Kleinschmidt, (503) 820-2280, at least 5 days prior to the meeting date.

Dated: October 20, 2014.
Tracey L. Thompson,
Acting Deputy Director, Office of Sustainable Fisheries, National Marine Fisheries Service.

[FR Doc. 2014-25246 Filed 10-22-14; 8:45 am]

BILLING CODE 3510-22-P